DEPARTMENT OF ENERGY

Federal Energy Regulatory Commission

[Docket No. OR16-20-000]

ITC Pipeline Company, LLC; Notice of Request for Waiver

Take notice that on July 14, 2016, pursuant to Rule 207(a)(5) of the Federal Energy Regulatory Commission's (Commission), ITC Pipeline Company, LLC (“ITC Pipeline”) requests waiver of the portion of 18 CFR 342.4(c)(2016), that would require ITC Pipeline to submit a verified statement in support of (1) the incentive rates (“Incentive Rates”) agreed to by ITC Pipeline's current shippers, as opposed to its prospective shippers who will begin shipping once ITC Pipeline goes into service, and (2) any changes to the Incentive Rates that ITC Pipeline makes in a subsequent tariff filing with the Commission provided such changes are made in accordance with the written terms of the applicable dedication agreement described in the transmittal letter of ITC Pipeline's initial rules and rates tariff filed concurrently therewith.

Any person desiring to intervene or to protest this filing must file in accordance with Rules 211 and 214 of the Commission's Rules of Practice and Procedure (18 CFR 385.211 and 385.214 (2014)) on or before 5:00 p.m. Eastern time on the specified comment date. Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern time on September 23, 2016.

Dated: September 8, 2016.
Kimberly D. Bose,
Secretary.

[FR Doc. 2016-22263 Filed 9-15-16; 8:45 am]

BILLING CODE 6717-01-P